DEPARTMENT OF THE TREASURY

Internal Revenue Service

26 CFR Part 1

[REG-135898-04]

RIN 1545-BD63

Extension of Time To Elect Method for Determining Allowable Loss; Correction

AGENCY: Internal Revenue Service (IRS), Treasury.

ACTION: Correction to notice of proposed rulemaking by cross-reference to temporary regulations.

SUMMARY: This document corrects a notice of proposed rulemaking by cross-reference to temporary regulations (REG-135898-04) that was published in the Federal Register on Thursday, August 26, 2004 (69 FR 52462), that extends time for consolidated groups to elect to apply a method for determining allowable loss on a disposition of subsidiary stock, and permit consolidated groups to revoke such elections.

FOR FURTHER INFORMATION CONTACT: Theresa Abell, (202) 622-7700 or Martin Huck, (202) 622-7750 (not toll-free numbers).

SUPPLEMENTARY INFORMATION:

Background

The notice of proposed rulemaking by cross-reference to temporary regulations (REG-135898-04) that is the subject of this correction is under section 1502 of the Internal Revenue Code.

Need for Correction

As published, the notice of proposed rulemaking by cross-reference to temporary regulations contains errors that may prove to be misleading and are in need of clarification.

Correction of Publication

Accordingly, the notice of proposed rulemaking by cross-reference to temporary regulations (REG-135898-04) which is the subject of FR Doc. 04-19477 is corrected as follows:

§ 1.1502-20 [Corrected]

On page 52463, column 2, § 1.1502-20, in the amendatory language, Par. 3., line 4, the language “August 25, 2004” each time it appears.” is corrected to read “August 26, 2004” each time it appears.”.

Cynthia E. Grigsby,
Acting Chief, Publications and Regulations Branch, Legal Processing Division, Associate Chief Counsel (Procedures and Administration).

[FR Doc. 04-21701 Filed 9-27-04; 8:45 am]

BILLING CODE 4830-01-P